ENVIRONMENTAL PROTECTION AGENCY

[OA-2003-0009; FRL-7791-1]

Agency Information Collection Activities; Submission to OMB for Review and Approval; Comment Request; Obtaining Feedback on Public Involvement Activities and Processes, EPA ICR Number 2151.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before August 23, 2004.

ADDRESSES: Submit your comments, referencing docket ID number OA-2003-0009, to (1) EPA online using EDOCKET (our preferred method), by e-mail to oei.docket@epa.gov, or by mail to: EPA Docket Center, Environmental Protection Agency, Office of Environmental Information Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Patricia Bonner, Office of Policy, Economics and Innovation, Mail Code 1807T, Environmental Protection Agency, 1200 Pennsylvania Ave., NW., Washington, DC 20460; telephone number: 202-566-2204; fax number: 202-566-2200; e-mail address: bonner.patricia@epa.gov.

SUPPLEMENTARY INFORMATION: EPA has submitted the following ICR to OMB for review and approval according to the procedures prescribed in 5 CFR 1320.12. On February 13, 2004 (69 FR 7213) and April 20, 2004 (69 FR 21097) EPA sought comments on this ICR pursuant to 5 CFR 1320.8(d). EPA received no comments.

EPA has established a public docket for this ICR under Docket ID No. OA-2003-0009, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Obtaining Feedback on Public Involvement Activities and Processes.

Abstract: Evaluation, one of the key elements in the Agency's Public Involvement Policy, will make it possible for EPA to better understand: (1) If the Agency is taking the necessary steps to gather and consider public Input; (2) the quality of the Agency's public involvement activities and processes; (3) how to consistently and systematically learn and improve those activities and processes, and (4) how the Agency can be more accountable to the public. This ICR will enable EPA to gather feedback from participants to identify how they perceive they were treated during the activity, as well as the quality of pre-activity information, the activity itself and follow-up. By using sets of surveys addressing the quality of frequently used public involvement activities and processes (hearings, meetings, FACAs, citizen advisory groups, listening sessions and stakeholder negotiations) to perform formative evaluation, EPA can better determine the extent to which our public involvement activities meet their needs or need to be improved, and can make iterative improvements. The survey responses will be confidential and the questionnaires will not involve “fact-finding” for the purposes of regulatory development or enforcement.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 10 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Respondents will be participants in public involvement activities who range from well known scientific experts to representatives of various interest groups, to individual business or property owners, local officials, interested young students and residents of environmental justice neighborhoods and tribal members. The term “the public” is used in the Public Involvement Policy in the broadest sense to include anyone, including both individuals and organizations, who may have an interest in an Agency decision.

Estimated Number of Respondents: 18,190.

Frequency of Response: On occasion.

Estimated Total Annual Hour Burden: 2,871.

Estimated Total Annual Cost: $114,000, includes $0 annual capital/startup costs, $0 annual O&M costs, and $114,000 annual labor costs.

Changes in the Estimates: This is a new collection.

Dated: July 14, 2004.
Oscar Morales,
Director, Collection Strategies Division.

[FR Doc. 04-16716 Filed 7-21-04; 8:45 am]

BILLING CODE 6560-50-P